DEPARTMENT OF LABOR

Occupational Safety and Health Administration

[Docket No. ICR-1218-0132(2001)]

Standard on Specifications for Accident Prevention Signs and Tags; Extension of the Office of Management and Budget's (OMB) Approval of Information-Collection (Paperwork) Requirements

AGENCY: Occupational Safety and Health Administration (OSHA), Labor.

ACTION: Notice of an opportunity for public comment.

SUMMARY: OSHA solicits comments concerning its proposal to decrease the existing burden-hour estimates, and to extend OMB approval of the collection-of-information requirements, of the standard on Specifications for Accident Prevention Signs and Tags; this standard regulates the design, working and application of signs and tags that inform employees of workplace safety and health hazards.

DATES: Submit written comments on or before June 29, 2001.

ADDRESSES: Submit written comments to the Docket Office, Docket No. ICR-1218-0132(2001), OSHA, U.S. Department of Labor, Room N-2625, 200 Constitution Avenue, NW., Washington, DC 20210; telephone: (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW., Washington, DC 20210; telephone: (202) 693-2222. A copy of the Agency's Information-Collection Request (ICR) supporting the need for the information collections contained in the standard on Specifications for Accident Prevention Signs and Tags (29 CFR 1910.145) is available for inspection and copying in the Docket Office or by requesting a copy from Theda Kenney at (202) 693-2222. For electronic copies of the ICR contact OSHA on the Internet at http://www.osha.gov/comp-links.html and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are clearly understood, and OSHA's estimate of the information-collection burden is correct.

In determining the paperwork requirements specified in the standard on Specifications for Accident Prevention Signs and Tags (§ 1910.145; hereafter the “Standard”), the Agency finds that paragraph (a)(2) requires employers to use signs and tags that conform to the design and wording specifications contained in paragraphs (d)(1) through (d)(10), (e)(2), (f)(4)(i) through (f)(4)(iv), (f)(7), and (f)(8)(ii) of the Standard. OSHA believes that, as a usual and customary practice, employers meet this requirement by purchasing a supply of appropriate signs and tags. Therefore, the Agency concludes that no burden results from this requirement because appropriate signs and tags are readily available from commercial sources. This conclusion holds even for employers who don't make such purchases because OSHA provides them with the specific wording to use when fabricating their own signs and tags.

The Agency notes that the Standard does not contain requirements for employers to post signs and tags. Instead, other OSHA standards in part 1910 directly specify the posting requirements for the signs and tags described by this Standard. Therefore, the Agency is removing the burden hours previously attributed to posting signs or tags under this Standard, and will assign these burden hours more appropriately to the standards that directly require such posting.

OSHA is recognizing an additional paperwork requirement that it previously overlooked. The Standard requires employers to select signs and tags that are appropriate to the dangers and hazards identified in the workplace; paragraphs (c)(1)(i), (c)(2)(i), (c)(3), (e)(4), (f)(3), (f)(5) through (f)(7), and (f)(8)(i) specify the signs and tags that employers must select for these dangers and hazards. In addition, paragraphs (d)(l) through (d)(10), (e)(2), (f)(4)(i) through (f)(4)(iv), (f)(7), and (f)(8)(ii) provide the design and wording requirements for these signs and tags. Therefore, employers must ensure that the signs and tags selected are appropriate for the identified dangers and hazards and meet the design and wording requirements of the Standard. Accordingly, selecting appropriate signs and tags represents a paperwork requirement that incurs employer burden hours and cost. However, the Agency believes that this requirement imposes minimal burden on most employers because, after they initially identify workplace dangers and hazards and select the appropriate signs and tags, the types of dangers and hazards do not change significantly in most workplaces (i.e., new or additional signs and tags are necessary only for new facilities or new or additional dangers or hazards).

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and-transmission techniques.

III. Proposed Actions

OSHA proposes to decrease the existing burden-hour estimate, and to extend OMB approval, of the collection-of-information requirements specified by the Standard. In this regard, the Agency is proposing to decrease the current burden-hour estimate from 30,225 hours to 5,600 hours, a total reduction of 24,625 hours. The Agency will summarize the comments submitted in response to this notice, and will include this summary in its request to OMB to extend the approval of these information-collection requirements.

Type of Review: Extension of currently approved information-collection requirement.

Title: Specifications for Accident Prevention Signs and Tags (29 CFR 1910.145).

OMB Number: 1218-0132.

Affected Public: Business or other for-profit; not-for-profit institutions; Federal government; State, local or tribal governments.

Number of Respondents: 112,000.

Frequency of Response: On occasion.

Average Time per Response: 3 minutes (.05 hours).

Estimated Total Burden Hours: 5,600.

Estimated Cost (Operation and Maintenance): $0.

IV. Authority and Signature

R. Davis Layne, Acting Assistant Secretary of Labor for Occupational Safety and Health, directed the preparation of this notice. The authority for this notice is the Paperwork Reduction Act of 1995 (44 U.S.C. 3506), Secretary of Labor's Order No. 3-2000 (65 FR 50017).

Signed at Washington, DC on April 24, 2001.
R. Davis Layne,
Acting Assistant Secretary of Labor.

[FR Doc. 01-10636 Filed 4-27-01; 8:45 am]

BILLING CODE 4510-26-M